DEPARTMENT OF TRANSPORTATION

Federal Railroad Administration

[Docket No. FRA-2020-0039]

Environmental Impact Statement for the Western Rail Yard Infrastructure Project in New York County, New York

AGENCY: Federal Railroad Administration (FRA), Department of Transportation (DOT).

ACTION: Notice of Intent (NOI) to prepare an Environmental Impact Statement (EIS).

SUMMARY: Through this NOI, FRA announces its intent to prepare an EIS for the Western Rail Yard Infrastructure Project (Project) under the National Environmental Policy Act (NEPA). WRY Tenant LLC (an affiliate of The Related Companies, LP) and the National Railroad Passenger Corporation (Amtrak) are partnering in a joint venture to seek Federal financial assistance through the Railroad Rehabilitation and Improvement Financing (RRIF) Program, which is administered by the Build America Bureau (Bureau). FRA is conducting the environmental analysis to ensure compliance with the National Environmental Policy Act (NEPA) of 1969 and other applicable environmental laws. FRA invites the public and all interested parties to provide comments on the scope of the EIS, including the proposed purpose and need, the Proposed Action and alternatives, methodologies to be used to assess potential environmental impacts, and the approach for public and agency involvement. Due to the ongoing coronavirus disease 2019 (COVID-19) public health emergency, and consistent with the Centers for Disease Control and Prevention's guidance regarding large events and mass gatherings, FRA will conduct a virtual public scoping for the Project. FRA will also hold other Project meetings virtually, including Section 106 Consulting Party meetings, and encourages submission of scoping comments for the project and other documents electronically.

DATES: Persons interested in providing written comments on the scope of the EIS must do so by July 31, 2020. All comments will also be placed on the file at Regulations.gov. The Docket No. for this project is FRA-2020-0039. Please submit comments via email, mail, or by filling out a comment form on the Project website, using the contact information provided below in the “ADDRESSES” section. The public can review information about the Proposed Action and formally submit comments to the FRA. Project materials will also be available in Spanish. If you need special accommodations, please contact Andrea Poole prior to the close of the scoping period.

ADDRESSES: The public and other interested parties are encouraged to comment by filling out a comment form accessible via the Project's website at: www.westernrailyardinfrastructure.com and using the comment link provided, or at Regulations.gov, Docket Number: FRA-2020-0039. You can also send written comments by mail to the following address: Western Rail Yard Infrastructure Project, c/o Fitzgerald & Halliday, Inc., 416 Asylum Street, Hartford, CT 06103. All comments will also be placed on file at Regulations.gov.

FOR FURTHER INFORMATION CONTACT: Andrea Poole, Environmental Protection Specialist, Office of Railroad Policy and Development, U.S. DOT Federal Railroad Administration, via email at info@westernrailyardinfrasturcture.com.

SUPPLEMENTARY INFORMATION: WRY Tenant, LLC and Amtrak (Project Sponsors) are seeking financial assistance to fund the construction of a Platform and Tunnel Encasement (the Proposed Action) at the 13-acre Western Rail Yard site (Block 676, Lot 3) between West 30th and 33rd Streets and Eleventh and Twelfth Avenues in Manhattan, New York County, New York. The 9.8-acre structural steel and concrete Platform will serve as the roof above the Metropolitan Transportation Authority's (MTA) Western Rail Yard, which is used and operated by the Long Island Rail Road (LIRR) as a commuter railroad storage yard and maintenance facility. The Platform would also house other infrastructure, including critical life safety and mechanical, electrical and plumbing support services for the yard, including new lighting, sprinklers, and an extensive platform ventilation system. The Tunnel Encasement would be constructed of concrete below street level in Western Rail Yard. The Tunnel Encasement would be between 50 and 65 feet wide and between 27 and 38 feet high beneath Western Rail Yard. The Tunnel Encasement in Western Rail Yard would start at the western edge of Eleventh Avenue, and extend below the project site to the northern edge of 30th Street. Together, the Tunnel Encasement below both rail yards (Eastern and Western Rail Yards) would preserve a total ROW approximately 1,400 feet long. No permanent operational components, such as tracks, lighting, ventilation, or electrical system, would be constructed within the Tunnel Encasement as part of the Proposed Action. The Platform would also support the privately-funded Mixed-Use Development (Overbuild) approved by the New York City Planning Commission (CPC), and adopted by the New York City Council as zoning text and map amendments to the New York City Zoning Resolution, for redevelopment of the Western Rail Yard site. This construction also supports MTA's overall business plan to generate revenue to support their operations.

FRA will prepare the EIS in compliance with NEPA, 23 U.S.C. 139, the Council on Environmental Quality (CEQ) regulations implementing NEPA (40 CFR parts 1500‐1508), and 23 CFR part 771. After release and circulation of a Draft EIS for public comment, FRA intends to issue a single document that consists of the Final EIS and Record of Decision, unless it determines statutory criteria or practicability considerations preclude issuing a combined document.

The EIS will also document FRA's compliance with other applicable environmental laws and regulations, including Section 106 of the National Historic Preservation Act of 1966 (NHPA) (54 U.S.C. 306108); the Clean Air Act (42 U.S.C. 7401 et seq.); the Endangered Species Act (16 U.S.C. 1531); Section 4(f) of the Department of Transportation Act of 1966 (Section 4(f) 49 U.S.C. 303) and FRA's implementing regulations at 23 CFR part 774; U.S. DOT Order 5650.2 on Floodplain Management; the Coastal Zone Management Act; and Executive Order 12898 on Environmental Justice. The EIS will provide FRA, participating agencies, and the public with information about alternatives that meet the Proposed Action's purpose and need, including their environmental impacts and appropriate measures to avoid, minimize, and mitigate those impacts.

The Proposed Action may affect historic properties and will be subject to the requirements of Section 106 of the NHPA. Consistent with regulations issued by the Advisory Council on Historic Preservation (36 CFR part 800), FRA intends to coordinate compliance with Section 106 of the NHPA with the preparation of the EIS. In response to this NOI, the public and interested parties may also provide input relevant to FRA's Section 106 review process, including providing information that FRA may use in identifying and assessing effects of the Proposed Action on historic properties, including archaeological resources. In addition, interested parties may also request to participate in the Section 106 process as a consulting party under 36 CFR part 800.2(c).

Project Background

The MTA Hudson Yards (aka “John D. Caemmerer Hudson Yards”) is an electrified yard that stores 35 LIRR commuter trains daily, with a capacity of 386 train cars on 30 tracks. The train yard is divided into two sections, the Eastern Rail Yard located on Block 702 and the Western Rail Yard located on Block 676.

In 2007, MTA reached agreement with The Related Companies, LP ¹ (parent company to WRY Tenant LLC) for the development of plans for the Western Rail Yard. MTA and the New York City Planning Commission (CPC) served as co-lead agencies for an environmental review pursuant to the requirements of the New York State Environmental Quality Review Act (SEQRA) and City Environmental Quality Review (CEQR). The 2009 SEQRA/CEQR FEIS was published in October 9, 2009. Based on the findings of the 2009 SEQRA/CEQR Final EIS, zoning text and map amendments for the Western Rail Yard development were adopted into the New York City Zoning Resolution. The Platform and Overbuild are now as-of-right development and would be built in accordance with the City Zoning Resolution's existing zoning controls.

¹ The Related Companies, LP (Related) was the successful bidder of a competitive bid issued by MTA for the long-term ground leases with option to purchase severed fee parcels (for the development air rights over the Hudson Yards from MTA). Related is a privately-owned, American real estate firm headquartered in New York City, with offices and major developments in Boston, Chicago, Los Angeles, Las Vegas, Miami, San Francisco, Abu Dhabi, London, São Paulo and Shanghai. Related has more than 3,000 employees and is the largest landlord in New York City with over 8,000 residential rental units under ownership.

The FRA conducted an environmental assessment for the construction of a concrete casing beneath Hudson Yards, and issued Findings of No Significant Impact (FONSI) in 2013 ² and 2014 ³. The purpose of the concrete casing project was to preserve underground right-of-way in Hudson Yards to maintain opportunities to expand rail services, meet future demand, and improve intercity and commuter rail system safety and reliability. The preservation of the right-of-way is necessary to ensure the Platform and Overbuild construction would not eliminate the possibility of future rail development and expansion through Hudson Yards and into New York Penn Station. For more information about FRA's past environmental reviews of the concrete casing through Hudson Yards, please see https://www.fra.dot.gov/Page/P0666. Since FRA's issuance of the 2013 and 2014 FONSIs, two of the three sections of encasement have been built. The third section is the Tunnel Encasement that would be constructed as part of this project, and extends on a diagonal alignment from Eleventh Avenue to 30th Street in the Western Rail Yard.

² Amtrak and FRA. May 2013. Finding of No Significant Impact, Environmental Assessment for Construction of a Concrete Casing in the Hudson Yards, New York, New York.

³ Amtrak and FRA. November 2014. Finding of No Significant Impact, Supplemental Environmental Assessment for Construction of a Concrete Casing Extension in the Hudson Yards, New York, New York.

Purpose and Need

The purpose of the Proposed Action is to (1) cover and protect the active railroad tracks and LIRR support facilities in the Western Rail Yard so that the joint venture can provide additional new capacity for real estate development and house critical life safety and mechanical, electrical and plumbing support services for the Yard, including new lighting, sprinklers, and an extensive Platform ventilation system; and (2) preserve a right-of-way through the Western Rail Yard to support the future construction of a trans-Hudson passenger rail crossing into New York Penn Station. The Platform is needed to support the provision of developable land area that would generate revenue for the MTA and its subsidiary agencies and modernize state-of-the-art life safety systems for the entire Western Rail Yard.⁴ MTA has sought to maximize the revenue generation potential of its real estate assets; and, when Hudson Yards was redeveloped in 1986, the tracks and other facilities were specifically laid out to accommodate support columns that would be required for future development.

⁴ MTA's subsidiary agencies include LIRR, Metro-North Railroad, New York City Transit (NYCT), Capital Construction Company, Staten Island Railway, Regional Bus Operations, and Bridges and Tunnels.

Currently, there is no capacity for development over the Western Rail Yard without construction of the Platform. The 2005 Hudson Yards rezoning included the extension of the No. 7 IRT Flushing Line subway to 34th Street and Eleventh Avenue, providing new and closer access to the subway system in this area which made private development considerably more attractive and viable in this part of Manhattan. The 2005 Hudson Yards rezoning also provided for the development of a mix of uses and densities, including a provision for open space. The Tunnel Encasement is needed to preserve right of way for new rail infrastructure to support passenger rail service in and out of New York Penn Station.⁵ New rail infrastructure is part of the effort to maintain a functional, resilient, and improved trans-Hudson passenger rail crossing into New York Penn Station, maintain existing Amtrak intercity and NJ TRANSIT commuter rail service on the Northeast Corridor, and to support future increases in the capacity of the regional rail system should they be pursued.

⁵ Hudson Tunnel Project, Draft Environmental Impact Statement and Draft Section 4(f) Evaluation, June 2017, includes a Preferred Alternative consisting of the construction of a new rail tunnel under the Hudson River, including railroad infrastructure in New Jersey and New York connecting the new rail tunnel to the Northeast Corridor and into New York Penn Station.

Consistent with the purpose and need for the Proposed Action, the objectives of the Western Rail Yard Infrastructure Project include:

• Maintain safe, continuous, and uninterrupted LIRR operations in the Western Rail Yard through the addition of critical life safety and ventilation systems and the modernization of operational facilities within Western Rail Yard;

• Support the ability to meet the revenue-generation goals of the MTA, the owner of the Western Rail Yard;

• Provide the support for the economic, social, and recreational life of the Hudson Yards area and the City; and,

• Preserve opportunities to enable future growth of passenger rail service and to maintain a functional, resilient, and improved trans-Hudson passenger rail crossing into New York Penn Station.

Proposed Action and Alternatives

The Proposed Action consists of:

• A new approximately 9.8-acre Platform spanning the Western Rail Yard, including deep footings and a concrete slab to cover the active rail yard below, and reinforced building foundations for Overbuild development. Platform construction would also include the modernization of LIRR support services including: emergency electrical equipment and new critical life safety and mechanical, electrical and plumbing support services, and an extensive ventilation system for the yard. In addition to the modernization efforts, construction of the Platform would necessitate the construction of approximately 20,000 square feet of new railroad staff facilities and rail car cleaning services.

• A Tunnel Encasement in the southern portion of the site running from Eleventh Avenue to West 30th Street to preserve right-of-way for a new trans-Hudson connection into New York Penn Station.

In addition to the Proposed Action, FRA will describe and evaluate the following types of construction activities in the Draft EIS:

• Construction staging areas at the Western Rail Yard site for the construction of all of the aforementioned project components and construction activities,

• Traffic and transportation interruptions including potential localized sidewalk and traffic lane closures.

FRA will refine the purpose of and need for the Proposed Action and identify alternatives that meet the purpose and need considering information obtained through the scoping process. The EIS will evaluate a No Action Alternative and reasonable and feasible Build Alternatives for the Proposed Action. FRA anticipates presenting the Preferred Alternative in the Draft EIS.

Possible Effects

The EIS will consider the potential effects of the project alternatives on the social, economic, and environmental resources in the study area. The analysis will include identification of study areas; documentation of the affected environment; evaluation of direct and indirect effects of the alternatives (including permanent [operational] and temporary [construction period] effects); and identification of measures to avoid and/or mitigate adverse impacts. FRA will evaluate the following resource areas:

• Land use, Land planning, and Property (acquisitions and displacements);

• Transportation (traffic, parking, transit, and pedestrian conditions);

• Air quality, Greenhouse gas emissions and Resilience

• Noise and vibration;

• Cultural Resources (including historic and archaeological resources);

• Parks and recreation areas;

• Aesthetic and visual quality;

• Contaminated materials;

• Utilities and Energy;

• Natural ecological systems (including threatened and endangered species)

• Soils and geology;

• Water resources and water quality (including floodplains);

• Coastal zone consistency;

• Socioeconomics;

• Public health;

• Environmental justice;

• Public safety and security; and

• Indirect and Cumulative effects.

Agencies within the U.S. DOT, including FRA, are subject to Section 4(f), which prohibits approval of any program or project that “uses” publicly-owned parks, recreation areas, wildlife and waterfowl refuges, and historic sites, unless there is no feasible and prudent alternative to the use of such land and such program or project includes all possible planning to minimize harm to the property. FRA will include in the Draft EIS a draft Section 4(f) evaluation in accordance with 23 CFR 774, if it is determined that the Proposed Action has the potential to result in the use of a Section 4(f) resource.

Scoping, Public Involvement, and Agency Coordination

This NOI initiates the scoping process under NEPA, which helps guide the development of the Draft EIS. FRA invites all interested individuals, organizations, and federal, state, and local agencies to comment on the scope of the EIS. Comments are encouraged on the Proposed Action's purpose and need and alternatives to be considered in the EIS; the analyses to include in the EIS, including identification of appropriate study areas and the effects-assessment methodologies to be used; the approach for public and agency involvement; and any concerns about the anticipated impacts of the Proposed Action.

Public agencies with jurisdiction are requested to advise FRA of the applicable permit and environmental review requirements of each agency, and the scope and content of the environmental information germane to the agency's statutory responsibilities in connection with the Proposed Action. Public agencies are requested to advise FRA if they anticipate taking a major action in connection with the Proposed Action and if they wish to cooperate in the preparation of the EIS under 40 CFR 1501.16.

FRA will coordinate with participating agencies during development of the Draft EIS consistent with 23 U.S.C. 139. FRA will also consult with Federally recognized Native American tribes and Consulting Parties identified under Section 106 of the NHPA.

The FRA will invite all Federal and non-Federal agencies and Native American tribes that may have an interest in the Proposed Action to become participating agencies for the EIS and Consulting Parties in the Section 106 process. If an agency or tribe is not invited and would like to participate, it should contact Ms. Andrea Poole at the contact information listed above (FOR FURTHER INFORMATION). The FRA will develop an Agency and Public Coordination Plan summarizing how it will engage the public, agencies, and tribes in the process. The Coordination Plan will be posted to the project website at www.westernrailyardinfrastructure.com and Regulations.gov, Docket No. FRA-2020-0039. FRA will lead the outreach activities during the public scoping process, beginning with a scoping presentation made available on the project website and a scoping comment period identified under DATES above. FRA encourages submission of scoping comments for the project and other documents electronically. Other public involvement initiatives will be held throughout the course of the EIS. Public outreach activities will be announced on the project website at www.westernrailyardinfrastructure.com and through mailings, public notices, and advertisements.

Issued in Washington, DC.
Jamie P. Rennert,
Director, Program Delivery.

[FR Doc. 2020-12851 Filed 6-12-20; 8:45 am]

BILLING CODE 4910-06-P